DEPARTMENT OF HEALTH AND HUMAN SERVICES

Health Resources and Services Administration

National Vaccine Injury Compensation Program: List of Petitions Received

AGENCY: Health Resources and Services Administration (HRSA), Department of Health and Human Services (HHS).

ACTION: Notice.

SUMMARY: HRSA is publishing this notice of petitions received under the National Vaccine Injury Compensation Program (the program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Acting Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2017, through August 31, 2017. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: September 19, 2017
George Sigounas,
Administrator.

List of Petitions Filed

1. Teresa Audino and David Audino on behalf of C. A., Vienna, Virginia

Court of Federal Claims No: 17-1033V

2. Stephanie C. Savage, Greensboro, North Carolina

Court of Federal Claims No: 17-1036V

3. Alfred Wade, Jr. on behalf of Elaine D. Wade, Deceased, Wilmington, North Carolina

Court of Federal Claims No: 17-1039V

4. Tiffany S. Gaiter and Deverett S. Gaiter on behalf of Deverett S. Jr. Gaiter, Bay City, Michigan

Court of Federal Claims No: 17-1040V

5. Larry Tomczak, Washington, District of Columbia

Court of Federal Claims No: 17-1041V

6. Sergio Flores, Chula Vista, California

Court of Federal Claims No: 17-1042V

7. Kimberly Magro, Rockville, Maryland

Court of Federal Claims No: 17-1043V

8. Ruth Turner, Washington, District of Columbia

Court of Federal Claims No: 17-1044V

9. Joseph Diaz, Washington, District of Columbia

Court of Federal Claims No: 17-1045V

10. Robert Williams, Los Angeles, California

Court of Federal Claims No: 17-1046V

11. Joy Whittemore, Washington, District of Columbia

Court of Federal Claims No: 17-1047V

12. Martha A. Boudreau, Marietta, Georgia

Court of Federal Claims No: 17-1048V

13. Harry Robinson, Juneau, Alaska

Court of Federal Claims No: 17-1050V

14. Hazel Palm, Philadelphia, Pennsylvania

Court of Federal Claims No: 17-1051V

15. Kathy Reid, Royal Oak, Michigan

Court of Federal Claims No: 17-1052V

16. Steven Washington, Wilmington, Delaware

Court of Federal Claims No: 17-1053V

17. Beth Larrington, Leon, Iowa

Court of Federal Claims No: 17-1054V

18. Rosa Monzon, Hollywood, Florida

Court of Federal Claims No: 17-1055V

19. James T. Lawrence, Louisville, Kentucky

Court of Federal Claims No: 17-1056V

20. Steven Dingmann, Clearwater, Minnesota

Court of Federal Claims No: 17-1058V

21. Terra Rhea Varner, Ballentine, South Carolina

Court of Federal Claims No: 17-1060V

22. Michaelanne Graeff, St. Charles, Missouri

Court of Federal Claims No: 17-1062V

23. Robert Kissinger, Folsom, California

Court of Federal Claims No: 17-1063V

24. Leigh Ann Palmer, Portland, Oregon

Court of Federal Claims No: 17-1067V

25. Cheryl Desnick, Eden Prairie, Minnesota

Court of Federal Claims No: 17-1071V

26. Dana B. Strode, Spokane, Washington

Court of Federal Claims No: 17-1072V

27. Michael Wallace, Framingham, Massachusetts

Court of Federal Claims No: 17-1074V

28. Jennifer Gross, O'Fallon, Illinois

Court of Federal Claims No: 17-1075V

29. Marilynne Lesher, Lansdale, Pennsylvania

Court of Federal Claims No: 17-1076V

30. David Lans Stout, Jacksonville Beach, Florida

Court of Federal Claims No: 17-1077V

31. Kathryn Johnson, White Bear Lake, Minnesota

Court of Federal Claims No: 17-1078V

32. April J. Barr, Nashville, Indiana

Court of Federal Claims No: 17-1079V

33. Karen Aarons, Peekskill, New York

Court of Federal Claims No: 17-1081V

34. Douglas H. McElroy, Kernersville, North Carolina

Court of Federal Claims No: 17-1083V

35. Linda Baker on behalf of James Baker, Bluffton, South Carolina

Court of Federal Claims No: 17-1085V

36. Betty Jones, Atlanta, Georgia

Court of Federal Claims No: 17-1086V

37. Lily Wells, Houston, Texas

Court of Federal Claims No: 17-1087V

38. Jane O. Witham, Springfield, Vermont

Court of Federal Claims No: 17-1095V

39. Simon Olschansky, Phoenix, Arizona

Court of Federal Claims No: 17-1096V

40. Stephen Kaiser, McPherson, Kansas

Court of Federal Claims No: 17-1099V

41. Claire B. Steinberger, New York, New York

Court of Federal Claims No: 17-1101V

42. Dustin Logan, Colorado Springs, Colorado

Court of Federal Claims No: 17-1102V

43. Ellen Stoler, Charleston, South Carolina

Court of Federal Claims No: 17-1106V

44. Jennifer Green, Prattville, Alabama

Court of Federal Claims No: 17-1107V

45. Leah Marsh and Jeremy Marsh on behalf of E. M., West Jordan, Utah

Court of Federal Claims No: 17-1109V

46. Kenneth Keith, San Diego, California

Court of Federal Claims No: 17-1110V

47. James Izuwa, Honolulu, Hawaii

Court of Federal Claims No: 17-1111V

48. Eileen Schmigel, Ridgecrest, California

Court of Federal Claims No: 17-1112V

49. Linda Kolacny, Junction City, Kansas

Court of Federal Claims No: 17-1113V

50. Kenneth Rickard, Redding, California

Court of Federal Claims No: 17-1114V

51. Sarah Snyder on behalf of S. S., Omaha, Nebraska

Court of Federal Claims No: 17-1116V

52. Daniel H. Trigoboff, Hamburg, New York

Court of Federal Claims No: 17-1117V

53. Katrina Marie Brusatto on behalf of Domingo Rafael Brusatto, Spanaway, Washington

Court of Federal Claims No: 17-1118V

54. Paisley A. Kauffmann, Minneapolis, Minnesota

Court of Federal Claims No: 17-1119V

55. Derek Saunders, McDonough, Georgia

Court of Federal Claims No: 17-1120V

56. Heather Adams, Washington, District of Columbia

Court of Federal Claims No: 17-1121V

57. Jeffrey Cobb and Kimberly Cobb on behalf of T. C., Panora, Iowa

Court of Federal Claims No: 17-1123V

58. Gary Helvig, Salem, Oregon

Court of Federal Claims No: 17-1124V

59. Thida Phann, Kent, Washington

Court of Federal Claims No: 17-1125V

60. Michael Bacotti, Washington, District of Columbia

Court of Federal Claims No: 17-1126V

61. Joshua Bradley, Trenton, Georgia

Court of Federal Claims No: 17-1128V

62. Doris DiPonziano, Cherry Hill, New Jersey

Court of Federal Claims No: 17-1130V

63. Aaron Tomsky, Princeton, Minnesota

Court of Federal Claims No: 17-1132V

64. Judy Barton and Jones Barton on behalf of E. B., Cary, North Carolina

Court of Federal Claims No: 17-1133V

65. Julie Bulow, Washington, District of Columbia

Court of Federal Claims No: 17-1134V

66. Edgar C. Kisby, Egg Harbor Township, New Jersey

Court of Federal Claims No: 17-1135V

67. Carolyn Pierson, Roseburg, Oregon

Court of Federal Claims No: 17-1136V

68. Francine M. Skinner on behalf of H. S., Wilmington, North Carolina

Court of Federal Claims No: 17-1137V

69. Raquel Fournier, Winnetka, California

Court of Federal Claims No: 17-1139V

70. Cynthia S. Simon, St. Joseph, Missouri

Court of Federal Claims No: 17-1140V

71. Crystal Allen, Dallas, Texas

Court of Federal Claims No: 17-1141V

72. Linda Cartmel, Phoenix, Arizona

Court of Federal Claims No: 17-1146V

73. Jesse Lubin, Rockville Centre, New York

Court of Federal Claims No: 17-1147V

74. Ilya Ben, Middletown, New Jersey

Court of Federal Claims No: 17-1149V

75. Arthur F. Lute and Evan A. Lute on behalf of Arthur F. Lute, Imperial Beach, California

Court of Federal Claims No: 17-1150V

76. Carmen Murillo, Naperville, Illinois

Court of Federal Claims No: 17-1152V

77. Tara M. Lohman, Knoxville, Tennessee

Court of Federal Claims No: 17-1153V

78. Denise McGrath, Brooklyn, New York

Court of Federal Claims No: 17-1154V

79. Rebecca J. McDowell, Des Moines, Iowa

Court of Federal Claims No: 17-1156V

80. Nikko Cerrone, Farmington Hills, Michigan

Court of Federal Claims No: 17-1158V

81. Gloria Manuel, Phoenix, Arizona

Court of Federal Claims No: 17-1159V

82. Sandra Blevins, New York, New York

Court of Federal Claims No: 17-1161V

83. Michele Harding on behalf of W. J. H., Madison, Wisconsin

Court of Federal Claims No: 17-1164V

84. Jody Larsen, Seattle, Washington

Court of Federal Claims No: 17-1165V

85. Alexis Garner on behalf of K. T. G., Hyattsville, Maryland

Court of Federal Claims No: 17-1166V

86. Elvira Cruz, Englewood, New Jersey

Court of Federal Claims No: 17-1167V

87. Rasheedah Smith, Lawrenceville, Georgia

Court of Federal Claims No: 17-1169V

88. Carol Clark, Boston, Massachusetts

Court of Federal Claims No: 17-1170V

89. Lesa Marie Bowman-Harris, Salem, Oregon

Court of Federal Claims No: 17-1172V

90. Jennifer Claypool, Dayton, Nevada

Court of Federal Claims No: 17-1176V

91. Theresa Anderson, White Plains, New York

Court of Federal Claims No: 17-1178V

92. Maureen C. Clavio, Orland Park, Illinois

Court of Federal Claims No: 17-1179V

93. Ellen Honea, Beverly Hills, California

Court of Federal Claims No: 17-1180V

94. Jared Sipes, Jacksonville, North Carolina

Court of Federal Claims No: 17-1181V

[FR Doc. 2017-20540 Filed 9-25-17; 8:45 am]

BILLING CODE 4165-15-P